DEPARTMENT OF COMMERCE

National Oceanic and Atmospheric Administration

[RTID 0648-XD830]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Ecosystem and Ocean Planning Advisory Panel and Committee will hold a meeting. See SUPPLEMENTARY INFORMATION for agenda details.

DATES: The meeting will take place via webinar on Friday, April 26, 2024, from 9 a.m. to 12 p.m.

ADDRESSES: The meeting will take place over webinar with a telephone-only connection option. Details on how to connect to the meeting will be posted at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the Ecosystem and Ocean Planning Advisory Panel and Committee will discuss the unmanaged commercial landings reports which are provided to the Mid-Atlantic Fishery Management Council (Council) by NOAA Fisheries each year. The goal of these reports is to monitor for signs of developing unmanaged commercial fisheries in the Mid-Atlantic. This year, the Council will consider defining threshold levels of unmanaged landings that would trigger further evaluation for consideration of a management response. During this webinar meeting, the Ecosystem and Ocean Planning Committee and Advisory Panel will review the information provided in prior years' reports and provide input to the Council on considerations for defining landings thresholds or other metrics to trigger further evaluation for a potential management response. An agenda and background materials will be posted on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: April 3, 2024.
Rey Israel Marquez,
Acting Deputy Director, Office of Sustainable Fisheries, National Marine Fisheries Service.

[FR Doc. 2024-07422 Filed 4-5-24; 8:45 am]

BILLING CODE 3510-22-P